DEPARTMENT OF TRANSPORTATION

Surface Transportation Board

[Docket No. FD 35686]

Pioneer Railcorp—Continuation in Control Exemption—Rail Switching Services, Inc.

Pioneer Railcorp (Pioneer) and its subsidiaries ¹ have filed a verified notice of exemption pursuant to 49 CFR 1180.2(d)(2) to continue in control of Rail Switching Services, Inc. (RSS), upon RSS's becoming a Class III rail carrier.

¹ Pioneer states that it owns 100% of the common stock of its 17 Class III rail carrier subsidiaries: West Michigan Railroad Co., originally West Jersey Railroad Co.; Fort Smith Railroad Co.; Shawnee Terminal Railroad Co., Inc.; Mississippi Central Railroad Co., originally Natchez Trace Railroad; Alabama & Florida Railway Co., Inc., d/b/a Ripley & New Albany Railroad Co, Inc.; Decatur Junction Railway Co.; Vandalia Railroad Company; Keokuk Junction Railway Co.; Keokuk Union Depot Company; Michigan Southern Railroad Company, originally Wabash & Grand River Railway Co.; Elkhart & Western Railroad Co.; Kendallville Terminal Railroad Co.; Pioneer Industrial Railway Co.; The Garden City Western Railway, Inc.; Indiana Southwestern Railway Co.; Gettysburg & Northern Railroad Co.; and Georgia Southern Railway Co.

This transaction is related to a concurrently filed verified notice of exemption in Rail Switching Services, Inc.—Operation Exemption—Pemiscot County Port Authority, Docket No. FD 35685, wherein RSS seeks Board approval to operate over approximately 4.9 miles of rail line (the Line) owned by Pemiscot County Port Authority (PCPA) between the BNSF Railway Co. interchange at milepost 212.32, at Hayti, Mo., and milepost 217.22, at Pemiscot Port Harbor, on the Mississippi River between Hayti and Caruthersville, Mo.

The transaction may be consummated on or after November 14, 2012 (30 days after the notice of exemption was filed).

Pioneer represents that: (1) The Line does not connect with any railroads in the corporate family; (2) the transaction is not part of a series of anticipated transactions that would connect the Line with other railroads in the corporate family; and (3) the transaction does not involve a Class I rail carrier. Therefore, the transaction is exempt from the prior approval requirements of 49 U.S.C. 11323. See 49 CFR 1180.2(d)(2).

Under 49 U.S.C. 10502(g), the Board may not use its exemption authority to relieve a rail carrier of its statutory obligation to protect the interests of its employees. Section 11326(c), however, does not provide for labor protection for transactions under §§ 11324 and 11325 that involve only Class III rail carriers. Accordingly, the Board may not impose labor protective conditions here, because all of the carriers involved are Class III carriers.

If the verified notice contains false or misleading information, the exemption is void ab initio. Petitions to revoke the exemption under 49 U.S.C. 10502(d) may be filed at any time. The filing of a petition to revoke will not automatically stay the effectiveness of the exemption. Stay petitions must be filed no later than November 7, 2012 (at least seven days before the exemption becomes effective).

An original and 10 copies of all pleadings, referring to Docket No. FD 35686, must be filed with the Surface Transportation Board, 395 E Street SW., Washington, DC 20423-0001. In addition, one copy of each pleading must be served on Daniel A. LaKemper, Pioneer Railcorp, 1318 S. Johanson Road, Peoria, IL 61607.

Board decisions and notices are available on our Web site at www.stb.dot.gov.

Decided: October 23, 2012.
By the Board, Rachel D. Campbell, Director, Office of Proceedings.
Jeffrey Herzig,
Clearance Clerk.

[FR Doc. 2012-26787 Filed 10-30-12; 8:45 am]

BILLING CODE 4915-01-P